NUCLEAR REGULATORY COMMISSION

Seeks Qualified Candidates for the Advisory Committee on Reactor Safeguards

AGENCY: Nuclear Regulatory Commission.

ACTION: Request for résumés.

SUMMARY: The U.S. Nuclear Regulatory Commission is seeking qualified candidates for appointment to its Advisory Committee on Reactor Safeguards (ACRS).

ADDRESSES: Submit resumés to: Ms. Sherry Meador, Administrative Assistant, ACRS/ACNW, Mail Stop T2E-26, U.S. Nuclear Regulatory Commission, Washington, DC 20555-0001, or e-mail SAM@NRC.gov.

SUPPLEMENTARY INFORMATION: Congress established the ACRS to provide the NRC with independent expert advice on matters related to the safety of existing and proposed nuclear power plants and on the adequacy of proposed reactor safety standards. The Committee work currently emphasizes safety issues associated with the operation of 103 commercial nuclear units in the United States; the pursuit of a risk-informed and performance-based regulatory approach; license renewal applications; risk-informed revisions to 10 CFR Part 50; power uprates; transient and accident analysis codes; materials degradation issues; use of mixed oxide and high burnup fuels; and advanced reactor designs. The ACRS also has some involvement in security matters related to the integration of safety and security of commercial reactors. This work involves technical issues associated with consequence analysis and the assessment of effective mitigation strategies.

The ACRS membership includes individuals from national laboratories, academia, and industry who possess specific technical expertise along with a broad perspective in addressing safety concerns. Committee members are selected from a variety of engineering and scientific disciplines, such as nuclear power plant operations, nuclear engineering, mechanical engineering, electrical engineering, chemical engineering, metallurgical engineering, risk assessment, structural engineering, materials science, and instrumentation and process control systems. Committee members serve a 4-year term with the possibility of reappointment up to a maximum of two terms, for a potential total service of 12 years. At this time, candidates are specifically being sought who have 10 or more years of experience in the areas of thermal hydraulics, materials and metallurgy and/or plant operations. Candidates with pertinent graduate level experience will be given additional consideration. Individuals should have a demonstrated record of accomplishments in the area of nuclear reactor safety. It is the NRC's policy to select the best qualified applicant for the job, regardless of race, gender, age, religion, or any other non-merit factor.

Criteria used to evaluate candidates include education and experience, demonstrated skills in nuclear safety matters, and the ability to solve problems. Additionally, the Commission considers the need for specific expertise in relationship to current and future tasks. Consistent with the requirements of the Federal Advisory Committee Act, the Commission seeks candidates with varying views and of diverse backgrounds so that the membership on the Committee will be fairly balanced in terms of the points of view represented and functions to be performed by the Committee.

Because conflict-of-interest regulations restrict the participation of members actively involved in the regulated aspects of the nuclear industry, the degree and nature of any such involvement will be weighed. Each qualified candidate's financial interests must be reconciled with applicable Federal and NRC rules and regulations prior to final appointment. This might require divestiture of securities issued by nuclear industry entities, or discontinuance of industry-funded research contracts or grants. A security background investigation for a Q clearance (or the transfer of an up-to-date Q clearance) will also be required.

Candidates must be citizens of the United States and be able to devote approximately 80-100 days per year to Committee business. A résumé describing the educational and professional background of the candidate, including any special accomplishments, professional references, current address, and telephone number should be provided. All qualified candidates will receive careful consideration. Applications will be accepted until June 6, 2005.

Dated: February 17, 2005.
Andrew L. Bates,
Advisory Committee Management Officer.

[FR Doc. 05-3488 Filed 2-23-05; 8:45 am]

BILLING CODE 7590-01-U